DEPARTMENT OF HEALTH AND HUMAN SERVICES

Meeting of the Presidential Advisory Council on HIV/AIDS

AGENCY: Department of Health and Human Services, Office of the Secretary, Office of Public Health and Science.

ACTION: Notice.

SUMMARY: As stipulated by the Federal Advisory Committee Act, the U.S. Department of Health and Human Service (DHHS) is hereby giving notice that the Presidential Advisory Council on HIV/AIDS (PACHA) will hold a meeting. The meeting will be open to the public.

DATES: The meeting will be held on February 2, 2010 from 9 a.m. to approximately 5 p.m.

ADDRESSES: South Court Auditorium, Eisenhower Executive Office Building, Pennsylvania Avenue and 17th Street, NW., Washington, DC 20501.

FOR FURTHER INFORMATION CONTACT: Mr. Melvin Joppy, Committee Manager, Presidential Advisory Council on HIV/AIDS, Department of Health and Human Services, 200 Independence Avenue, SW., Room 443H, Hubert H. Humphrey Building, Washington, DC 20201; (202) 690-5560. More detailed information about PACHA can be obtained by accessing the Council's Web site at http://www.pacha.gov.

SUPPLEMENTARY INFORMATION: PACHA was established by Executive Order 12963, dated June 14, 1995 as amended by Executive Order 13009, dated June 14, 1996. The Council was established to provide advice, information, and recommendations to the Secretary regarding programs and policies intended to (a) Promote effective prevention of HIV disease, (b) advance research on HIV and AIDS, and (c) promote quality services to persons living with HIV disease and AIDS. PACHA was established to serve solely as an advisory body to the Secretary of Health and Human Services.

The agenda for this Council meeting will be posted on the Council's Web site http://www.pacha.gov.

This meeting of the PACHA will be on White House property, thus, each person must be screened and cleared by the U.S. Secret Service. Pre-registration for public attendance is mandatory. Please contact: Natalie Pojman, Office of National AIDS Policy (202) 456-4533 or npojman@who.eop.gov. Members of the public will be accommodated on a first come first served basis as meeting room space is limited. Ms. Pojman will need your full name, social security number, date of birth, residency and country of origin to process public access attendance. Pre-registration must be submitted by close of business January 28, 2010.

Members of the public will have the opportunity to provide comments at the meeting. Any individual who wishes to participate in the public comment session must register at http://www.pacha.gov; registration for public comment will not be accepted by telephone. Public comment will be limited to two minutes per speaker. Any members of the public who wish to have printed material distributed to PACHA members for discussion at the meeting should submit, at a minimum, 30 copies of the materials to the Committee Manager, PACHA, no later than close of business January 29, 2010. Contact information for the PACHA Committee Manager is listed above.

Dated: January 12, 2010.
Christopher Bates,
Executive Director, Presidential Advisory Council on HIV/AIDS.

[FR Doc. 2010-744 Filed 1-14-10; 8:45 am]

BILLING CODE 4150-28-P